NUCLEAR REGULATORY COMMISSION

Notice of the Staff's Intention to Combine Draft Regulatory Guide DG-4006 With the Standard Review Plan for Decommissioning

SUMMARY: The U. S. Nuclear Regulatory Commission (NRC) plans to combine the guidance in Draft Regulatory Guide DG-4006, with the Standard Review Plan (SRP) for decommissioning currently being developed by NRC staff.

SUPPLEMENTARY INFORMATION: In August 1998, NRC issued “Draft Regulatory Guide DG-4006, Demonstrating Compliance with the Radiological Criteria for License Termination” for a 2-year use and comment period. DG-4006 addressed the release from regulatory control of buildings and soil but did not pertain to the release of contaminated equipment. It included regulatory positions on dose modeling, methods for conducting final status surveys, as low as reasonably achievable analysis, and license termination under restricted conditions. DG-4006 also discussed how these regulatory positions should be integrated during license termination activities. NRC staff initially intended to finalize the DG by July 2000. In September 1999, NRC staff stated that it would accept comments on DG-4006 until November 1999. NRC staff received approximately 185 comments on DG-4006 from four professional organizations, one Federal agency, three State regulatory agencies and the Conference of Radiation Control Program Directors, and two private concerns.

In late 1999, NRC staff, in recognition that similar guidance was being presented in the SRP, decided to combine the guidance in DG-4006 with the guidance in the SRP and use the SRP as the primary guidance document. This action will aid in consolidating decommissioning guidance in a user-friendly manner. As such, NRC staff does not plan to publish a final version of the Regulatory Guide. Comments submitted by interested individuals on DG-4006 will be considered as NRC staff finalizes the SRP.

FOR FURTHER INFORMATION CONTACT: Dominick A. Orlando, Decommissioning Branch, Division of Waste Management, Office of Nuclear Material Safety and Safeguards, at (301) 415-6749.

Dated at Rockville, Maryland, this 24th day of February 2000.
For the Nuclear Regulatory Commission.
Michael C. Layton,
Acting Chief, Decommissioning Branch, Division of Waste Management, Office of Nuclear Material Safety and Safeguards.

[FR Doc. 00-4888 Filed 2-29-00; 8:45 am]

BILLING CODE 7590-01-P